DEPARTMENT OF TRANSPORTATION

Federal Aviation Administration

14 CFR Part 39

[Docket No. FAA-2021-0341; Project Identifier AD-2021-00325-T; Amendment 39-21529; AD 2021-09-15]

RIN 2120-AA64

Airworthiness Directives; Lockheed Martin Corporation/Lockheed Martin Aeronautics Company Airplanes

AGENCY: Federal Aviation Administration (FAA), DOT.

ACTION: Final rule; request for comments.

SUMMARY: The FAA is adopting a new airworthiness directive (AD) for all Lockheed Martin Corporation/Lockheed Martin Aeronautics Company Model 382, 382B, 382E, 382F, and 382G airplanes, type certificated in any category; and Model C-130A, C-130B, C-130BL, C-130E, C-130H, C-130H-30, C-130J, C-130J-30, EC-130Q, HC-130H, KC-130H, NC-130B, NC-130, and WC-130H airplanes, type certificated in the restricted or amateur category. This AD was prompted by a crack found on the web attachment flange of the center wing upper forward corner fitting. This AD requires an eddy current surface scan for cracks of the center wing upper and lower forward corner fittings and fasteners, a torque check of the left and right outer-wing-to-center-wing front-beam-web-joint-splice-angle fasteners, and repair, retorqueing, or replacement if necessary. The FAA is issuing this AD to address the unsafe condition on these products.

DATES: This AD is effective June 1, 2021.

The Director of the Federal Register approved the incorporation by reference of a certain publication listed in this AD as of June 1, 2021.

The FAA must receive comments on this AD by June 28, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Lockheed Martin Corporation/Lockheed Martin Aeronautics Company, Customer Support Center, Dept. 3E1M, Zone 0591, 86 S Cobb Drive, Marietta, GA 30063; telephone 770-494-9131; email hercules.support@lmco.com; internet https://www.lockheedmartin.com. You may view this service information at the FAA, Airworthiness Products Section, Operational Safety Branch, 2200 South 216th St., Des Moines, WA. For information on the availability of this material at the FAA, call 206-231-3195. It is also available at https://www.regulations.gov by searching for and locating Docket No. FAA-2021-0341.

Examining the AD Docket

You may examine the AD docket at https://www.regulations.gov by searching for and locating Docket No. FAA-2021-0341; or in person at Docket Operations between 9 a.m. and 5 p.m., Monday through Friday, except Federal holidays. The AD docket contains this final rule, any comments received, and other information. The street address for the Docket Operations is listed above.

FOR FURTHER INFORMATION CONTACT: Fred Caplan, Aerospace Engineer, Airframe Section, FAA, Atlanta ACO Branch, 1701 Columbia Avenue, College Park, GA 30337; phone: 404-474-5507; fax: 404-474-5606; email: Frederick.N.Caplan@faa.gov.

SUPPLEMENTARY INFORMATION:

Background

The FAA has received a report indicating that a crack was found on the web attachment flange of the center wing upper forward corner fitting. Loose fasteners in the wing station 220 wing joint at the front beam web can cause internal load redistribution and consequent cracked center wing upper and lower corner fittings and failed fasteners in those fittings. This condition, if not addressed, could result in reduced structural integrity of the airplane and loss of control of the airplane. The FAA is issuing this AD to address the unsafe condition on these products.

FAA's Determination

The FAA is issuing this AD because the agency has determined the unsafe condition described previously is likely to exist or develop in other products of the same type design.

Related Service Information Under 1 CFR Part 51

The FAA reviewed Lockheed Martin Aeronautics Company Alert Service Bulletin A382-57-99, Revision 1, dated February 17, 2021. This service information specifies procedures for an eddy current surface scan for cracks of the center wing upper and lower forward corner fittings and fasteners (including the exterior of the vertical flange of the corner fitting common to the front beam web and interior surfaces of the corner fitting horizontal and vertical flanges common to the beam cap), a torque check of left and right outer-wing-to-center-wing front-beam-web-joint-splice-angle fasteners (including checking for any loose, sheared, broken, or missing fasteners), retorqueing the outer-wing-to-center-wing front-beam-web-joint-splice-angle fasteners, and repair or replacement. This service information is reasonably available because the interested parties have access to it through their normal course of business or by the means identified in the ADDRESSES section.

AD Requirements

This AD requires accomplishing the actions specified in the service information already described, except as discussed under “Differences Between this AD and the Service Information.”

Differences Between This AD and the Service Information

Lockheed Martin Aeronautics Company Alert Service Bulletin A382-57-99, Revision 1, dated February 17, 2021, applies to Model 382, 382B, 382E, 382F, and 382G airplanes. This AD applies to Model C-130A, C-130B, C-130BL, C-130E, C-130H, C-130H-30, C-130J, C-130J-30, EC-130Q, HC-130H, KC-130H, NC-130B, NC-130, and WC-130H airplanes as well as the airplanes specified in Lockheed Martin Aeronautics Company Alert Service Bulletin A382-57-99, Revision 1, dated February 17, 2021. The FAA has confirmed that all airplanes identified in paragraph (c) of this AD can comply with the actions specified in Lockheed Martin Aeronautics Company Alert Service Bulletin A382-57-99, Revision 1, dated February 17, 2021.

Impact on Intrastate Aviation in Alaska

In light of the heavy reliance on aviation for intrastate transportation in Alaska, the FAA has fully considered the effects of this AD (including costs to be borne by affected operators) from the earliest possible stages of AD development. This AD is based on those considerations, and was developed with regard to minimizing the economic impact on operators to the extent possible, consistent with the safety objectives of this AD. In any event, the Federal Aviation Regulations require operators to correct an unsafe condition identified on an airplane to ensure operation of that airplane in an airworthy condition. The FAA has determined in this case that the requirements are necessary and the indirect costs would be outweighed by the safety benefits of the AD.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because loose fasteners in the wing station 220 wing joint at the front beam web can cause internal load redistribution, and consequent cracked center wing upper and lower corner fittings and failed fasteners in those fittings, resulting in reduced structural integrity of the airplane and loss of control of the airplane. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Comments Invited

The FAA invites you to send any written data, views, or arguments about this final rule. Send your comments to an address listed under ADDRESSES. Include Docket No. FAA-2021-0341 and Project Identifier AD-2021-00325-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Caplan, Aerospace Engineer, Airframe Section, FAA, Atlanta ACO Branch, 1701 Columbia Avenue, College Park, GA 30337; phone: 404-474-5507; fax: 404-474-5606; email: Frederick.N.Caplan@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 20 airplanes of U.S. registry. The FAA estimates the following costs to comply with this AD:

Estimated Costs
Action | Labor cost | Parts cost | Cost per product | Cost on U.S. operators
Inspection, torque check, and retorque | 40 work-hours × $85 per hour = $3,400 | $0 | $3,400 | $68,000

The FAA estimates the following costs to do any necessary replacements that would be required based on the results of the inspection. The FAA has no way of determining the number of aircraft that might need these replacements:

On-Condition Costs
Action | Labor cost | Parts cost | Cost per product
Replacement | Up to 120 work-hours × $85 per hour = Up to $10,200 | Up to $100 | Up to $10,300.

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

Is not a “significant regulatory action” under Executive Order 12866.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-09-15 Lockheed Martin Corporation/Lockheed Martin Aeronautics Company: Amendment 39-21529; Docket No. FAA-2021-0341; Project Identifier AD-2021-00325-T.

(a) Effective Date

This airworthiness directive (AD) is effective June 1, 2021.

(b) Affected ADs

None.

(c) Applicability

This AD applies to all Lockheed Martin Corporation/Lockheed Martin Aeronautics Company Model 382, 382B, 382E, 382F, and 382G airplanes, type certificated in any category; and Model C-130A, C-130B, C-130BL, C-130E, C-130H, C-130H-30, C-130J, C-130J-30, EC-130Q, HC-130H, KC-130H, NC-130B, NC-130, and WC-130H airplanes, type certificated in the restricted or amateur category. The restricted and amateur category airplanes were originally manufactured by Lockheed Martin Corporation/Lockheed Martin Aeronautics Company; current type certificate holders include, but are not limited to, those specified in paragraphs (c)(1) through (9) of this AD.

(1) LeSEA Model C-130A airplanes, Type Certificate Data Sheet (TCDS) A34SO, Revision 1.

(2) T.B.M, Inc. (transferred from Central Air Services, Inc.), Model C-130A airplanes, TCDS A39CE, Revision 3.

(3) Western International Aviation, Inc., Model C-130A airplanes, TCDS A33NM.

(4) USDA Forest Service Model C-130A airplanes, TCDS A15NM, Revision 4.

(5) Snow Aviation International, Inc., Model C-130A airplanes, TCDS TQ3CH, Revision 1.

(6) Heavylift Helicopter, Inc. (transferred from Hemet Valley Flying Service), Model C-130A, TCDS A31NM airplanes, Revision 1.

(7) Heavylift Helicopters, Inc., Model C-130B airplanes, TCDS A35NM, Revision 1.

(8) Hawkins & Powers Aviation, Inc., Model HP-C-130A airplanes, TCDS A30NM, Revision 1.

(9) Coulson Aviation (USA), Inc., Model EC-130Q airplanes, TCDS T00019LA, Revision 2.

(d) Subject

Air Transport Association (ATA) of America Code 57, Wings.

(e) Unsafe Condition

This AD was prompted by a report of a crack found on the web attachment flange of the center wing upper forward corner fitting. The FAA is issuing this AD to address loose fasteners in a certain wing joint at the front beam web, which can cause internal load redistribution, and consequent cracked center wing upper and lower corner fittings and failed fasteners in those fittings, resulting in reduced structural integrity of the airplane and loss of control of the airplane.

(f) Compliance

Comply with this AD within the compliance times specified, unless already done.

(g) Inspection, Torque Check, and Corrective Actions

At the applicable compliance time specified in paragraph (g)(1) or (2) of this AD, do an eddy current surface scan for cracks of the center wing upper and lower forward corner fittings and fasteners, and do a torque check of the left and right outer-wing-to-center-wing front-beam-web-joint-splice-angle fasteners (including checking for any loose, sheared, broken, or missing fasteners), in accordance with the Accomplishment Instructions of Lockheed Martin Aeronautics Company Alert Service Bulletin A382-57-99, Revision 1, dated February 17, 2021. If any cracking is found during the inspection, repair before further flight using a method approved in accordance with the procedures specified in paragraph (j) of this AD. If any loose fastener is found during the torque check, retorque the fastener before further flight, in accordance with the Accomplishment Instructions of Lockheed Martin Aeronautics Company Alert Service Bulletin A382-57-99, Revision 1, dated February 17, 2021. If any sheared, broken, or missing fastener is found during the torque check, replace the fastener before further flight.

(1) For airplanes that have accumulated 2,500 or more flight hours as of the effective date of this AD: Within 90 days after the effective date of this AD.

(2) For airplanes that have accumulated less than 2,500 flight hours as of the effective date of this AD: Within 270 days after the effective date of this AD.

(h) No Reporting

Although Lockheed Martin Aeronautics Company Alert Service Bulletin A382-57-99, Revision 1, dated February 17, 2021, specifies to report inspection findings, this AD does not require any report.

(i) Special Flight Permit

Special flight permits, as described in 14 CFR 21.197 and 21.199, are not allowed.

(j) Alternative Methods of Compliance (AMOCs)

(1) The Manager, Atlanta ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in Related Information.

(2) Before using any approved AMOC, notify your appropriate principal inspector, or lacking a principal inspector, the manager of the responsible Flight Standards Office.

(3) An AMOC that provides an acceptable level of safety may be used for any repair, modification, or alteration required by this AD if it is approved by a Lockheed Martin Corporation/Lockheed Martin Aeronautics Company Designated Engineering Representative (DER) that has been authorized by the Manager, Atlanta ACO Branch, FAA, to make those findings. To be approved, the repair, modification deviation, or alteration deviation must meet the certification basis of the airplane, and the approval must specifically refer to this AD.

(k) Related Information

For more information about this AD, contact Fred Caplan, Aerospace Engineer, Airframe Section, FAA, Atlanta ACO Branch, 1701 Columbia Avenue, College Park, GA 30337; phone: 404-474-5507; fax: 404-474-5606; email: Frederick.N.Caplan@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Lockheed Martin Aeronautics Company Alert Service Bulletin A382-57-99, Revision 1, dated February 17, 2021.

(ii) [Reserved]

(3) For service information identified in this AD, contact Lockheed Martin Corporation/Lockheed Martin Aeronautics Company, Customer Support Center, Dept. 3E1M, Zone 0591, 86 S Cobb Drive, Marietta, GA 30063; telephone 770-494-9131; email hercules.support@lmco.com; internet https://www.lockheedmartin.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on April 23, 2021.
Gaetano A. Sciortino,
Deputy Director for Strategic Initiatives, Compliance & Airworthiness Division, Aircraft Certification Service.

[FR Doc. 2021-10262 Filed 5-11-21; 4:15 pm]

BILLING CODE 4910-13-P